DEPARTMENT OF TRANSPORTATION

National Highway Traffic Safety Administration

[Docket No. NHTSA-2021-0080; Notice 2]

FCA US LLC; Receipt of Petition for Decision of Inconsequential Noncompliance

AGENCY: National Highway Traffic Safety Administration (NHTSA), Department of Transportation (DOT).

ACTION: Receipt of petition.

SUMMARY: FCA US LLC f/k/a Chrysler Group LLC (collectively referred to as “FCA US”) has determined that certain model year (MY) 2018-2022 Alfa Romeo Stelvio motor vehicles do not fully comply with Federal Motor Vehicle Safety Standard (FMVSS) No. 111, Rear Visibility. FCA US filed a noncompliance report dated September 21, 2021. FCA US subsequently petitioned NHTSA on October 14, 2021, for a decision that the subject noncompliance is inconsequential as it relates to motor vehicle safety. This notice announces receipt of FCA US' petition and amended petition.

DATES: Send comments on or before January 2, 2025.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION:

I. Overview

FCA US has determined that certain MY 2018-2022 Alfa Romeo Stelvio motor vehicles do not fully comply with the requirements of paragraphs S2 and S.5.5.1 of FMVSS No. 111, Rear Visibility (49 CFR 571.111). FCA US filed a noncompliance report dated September 21, 2021, pursuant to 49 CFR part 573, Defect and Noncompliance Responsibility and Reports. FCA US subsequently petitioned NHTSA on October 14, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

NHTSA previously published notice of receipt of FCA US' petition on June 17, 2022, in the Federal Register (87 FR 36573). FCA US submitted an amended petition to NHTSA on July 30, 2024, that broadened the scope of FCA US' petition. Therefore, NHTSA invites interested persons to comment on FCA US' petition and supplemental information. This notice of receipt of FCA US' petition and amended petition is published under 49 U.S.C. 30118 and 30120 and does not represent any Agency decision or other exercise of judgment concerning the merits of the petition.

II. Vehicles Involved

Approximately 43,701 MY 2018-2022 Alfa Romeo Stelvio motor vehicles manufactured between April 12, 2017, and August 27, 2021, are potentially involved.

III. Noncompliance

FCA US explains that the noncompliance is that the subject vehicles are equipped with rearview camera displays that when tested to FMVSS No. 111, covers a required portion of a test object and therefore, do not fully meet the field of view requirements outlined in paragraphs S2 and S5.5.1 of FMVSS No. 111. Specifically, the rearview camera display includes “dynamic gridlines” that project the vehicle to be wider than it is. As a result, the “dynamic gridlines” partially cover the lower inside edges of the front test object when the steering wheel is straight.

IV. Rule Requirements

Paragraphs S2 and S5.5.1 of FMVSS No. 111 include the requirements relevant to this petition. Paragraph S2 of FMVSS No. 111 specifies that the purpose of this standard is to reduce the number of deaths and injuries that occur when the driver of a motor vehicle does not have a clear and reasonably unobstructed view to the rear. Paragraph S5.5.1 of FMVSS No. 111 requires the rearview image to include: (a) A minimum of a 150-mm wide portion along the circumference of each test object located at positions F and G; and (b) the full width and height of each test object located at positions A through E, when tested in accordance with the procedures in S14.1 of FMVSS 111.

V. Summary of FCA US' Petition

The following views and arguments presented in this section, V. Summary of FCA US' Petition and Amended Petition, are the views and arguments provided by FCA US. They have not been evaluated by the Agency and do not reflect the views of the Agency.

A. Summary of FCA's Petition

In its petition, FCA US describes the subject noncompliance and explains that it is caused by an incorrect calibration in the subject vehicles. According to FCA US the subject noncompliance is inconsequential to motor vehicle safety because the subject noncompliance “does not create an unclear or unreasonably obstructed view to the rear.” FCA US specifies that although the subject noncompliance exists, the obstruction caused by the gridlines while performing the FMVSS No. 111 test is “transitory” and does not “significantly obstruct the view to the rear.” ¹ Further, the gridlines will move rearward as the vehicle does, resulting in the test objects to be “displayed in full.”

¹ FCA US provided photos of the noncompliance in its petition which can be viewed in full at https://www.regulations.gov/docket/NHTSA-2021-0080.

FCA US quoted an excerpt from the notice of final rule for FMVSS No. 111 in which FCA US says that NHTSA “acknowledged that over lays, such as gridlines, could provide safety-related benefits.”

B. Summary of FCA's Amended Petition

In its amended petition, FCA US adds that an analysis of the gridline's overlap with the lower inner portion of test object E, which exceeds that of test object D, shows that the overlap is smaller than the size of a seated Riley Low Birth Weight Infant, the smallest test dummy, as referenced by the University of Michigan Transport Research Institute and 49 CFR part 572.² While FCA US acknowledges that the gridline intersects a portion of the test object specified in FMVSS No. 111, FCA US believes that the obstruction is minimal and insufficient to cover the area where a small child would be seated or lying at the point of the gridline meets the test object.

² FCA US cites https://www.umtri.umich.edu/wp-content/uploads/sites/11/2021/12/CPPRP_brochure12_21.pdf, pg 2.

FCA US concludes that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA US no longer controlled at the time it determined that the noncompliance existed. However, any decision on this petition does not relieve vehicle distributors and dealers of the prohibitions on the sale, offer for sale, or introduction or delivery for introduction into interstate commerce of the noncompliant vehicles under their control after FCA US notified them that the subject noncompliance existed.

(Authority: 49 U.S.C. 30118, 30120: delegations of authority at 49 CFR 1.95 and 501.8)

Otto G. Matheke III,
Director, Office of Vehicle Safety Compliance.

[FR Doc. 2024-28117 Filed 11-29-24; 8:45 am]

BILLING CODE 4910-59-P